DEPARTMENT OF COMMERCE

National Oceanic and Atmospheric Administration

RIN 0648-XB154

Marine Mammals; File No. 16388

AGENCY: National Marine Fisheries Service (NMFS), National Oceanic and Atmospheric Administration (NOAA), Commerce.

ACTION: Notice; receipt of application.

SUMMARY: Notice is hereby given that Mark Baumgartner, Ph.D., Woods Hole Oceanographic Institution, MS#33 Biology Department, Woods Hole, MA 02543, has applied in due form for a permit to conduct research on humpback whales (Megaptera novaeangliae), fin whales (Balaenoptera physalus), blue whales (B. musculus), sei whales (B. borealis), bowhead whales (Balaena mysticetus), North Atlantic right whales (Eubalaena glacialis), North Pacific right whales (E. japonica), and Eastern North Pacific gray whales (Eschrichtius robustus).

DATES: Written, telefaxed, or email comments must be received on or before June 28, 2012.

ADDRESSES: The application and related documents are available for review by selecting “Records Open for Public Comment” from the Features box on the Applications and Permits for Protected Species (APPS) home page, https://apps.nmfs.noaa.gov, and then selecting File No. 16388 from the list of available applications.

These documents are also available upon written request or by appointment in the following offices: See SUPPLEMENTARY INFORMATION.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Joselyd Garcia-Reyes or Carrie Hubard, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The applicant requests a five-year permit to study the diving behavior and foraging ecology of baleen whales. The purposes of the research are to: (1) Characterize diving and foraging behavior in the context of the oceanographic and acoustic environment to support improved management of baleen whales, (2) elucidate day-night cycles of foraging behavior, (3) study the environmental factors that influence diving behavior of all demographic groups, and (4) identify preferred prey species, but also the oceanographic conditions that help to concentrate prey to develop a predictive model of baleen whale distribution. Research would occur in: The northwest Atlantic from Maine to Florida; Canadian waters of the Gulf of Maine, Labrador Sea, Davis Strait, Baffin Bay, and Hudson Bay; waters off the U.S. North Pacific (California to Washington); and the Arctic Ocean including Bering, Chukchi and Beaufort Seas. The applicant requests takes of humpback, fin, blue, sei, bowhead, North Atlantic right and North Pacific right, and Eastern North Pacific gray whales. See the application for specific take numbers by location and species/stock. Activities would include vessel surveys for passive acoustic recording, dermal and suction cup tagging, behavioral observations, photo-id, and tracking.

A draft environmental assessment (EA) has been prepared in compliance with the National Environmental Policy Act of 1969 (42 U.S.C. 4321 et seq.), to examine whether significant environmental impacts could result from issuance of the proposed scientific research permit. The draft EA is available for review and comment simultaneous with the scientific research permit application.

Concurrent with the publication of this notice in the Federal Register, NMFS is forwarding copies of the application to the Marine Mammal Commission and its Committee of Scientific Advisors.

Documents may be reviewed in the following locations:

Permits and Conservation Division, Office of Protected Resources, NMFS, 1315 East-West Highway, Room 13705, Silver Spring, MD 20910; phone (301) 427-8401; fax (301) 713-0376;

Northwest Region, NMFS, 7600 Sand Point Way NE., BIN C15700, Bldg. 1, Seattle, WA 98115-0700; phone (206) 526-6150; fax (206) 526-6426;

Alaska Region, NMFS, P.O. Box 21668, Juneau, AK 99802-1668; phone (907) 586-7221; fax (907) 586-7249;

Southwest Region, NMFS, 501 West Ocean Blvd., Suite 4200, Long Beach, CA 90802-4213; phone (562) 980-4001; fax (562) 980-4018;

Northeast Region, NMFS, 55 Great Republic Drive, Gloucester, MA 01930; phone (978) 281-9328; fax (978) 281-9394; and

Southeast Region, NMFS, 263 13th Avenue South, Saint Petersburg, FL 33701; phone (727) 824-5312; fax (727) 824-5309.

Dated: May 22, 2012.
Tammy C. Adams,
Acting Chief, Permits and Conservation Division, Office of Protected Resources, National Marine Fisheries Service.

[FR Doc. 2012-12962 Filed 5-25-12; 8:45 am]

BILLING CODE 3510-22-P